DEPARTMENT OF TRANSPORTATION

Federal Aviation Administration

14 CFR Part 71

[Docket No. FAA-2024-2444; Airspace Docket No. 24-ASW-7]

RIN 2120-AA66

Establishment of Area Navigation (RNAV) Routes Q-162 and Q-166; Southwest United States

AGENCY: Federal Aviation Administration (FAA), DOT.

ACTION: Final rule.

SUMMARY: This action establishes Area Navigation (RNAV) Routes Q-162 and Q-166 in the southwest United States. The new RNAV routes provide alternative routing for air traffic travelling between southwest Arizona and western Texas in response to severe weather events during the spring and summer months. Additionally, the new RNAV routes expand the availability of RNAV routing in support of transitioning the National Airspace System (NAS) from a ground-based to a satellite-based system for navigation.

DATES: Effective date 0901 UTC, April 17, 2025. The Director of the Federal Register approves this incorporation by reference action under 1 CFR part 51, subject to the annual revision of FAA Order JO 7400.11 and publication of conforming amendments.

ADDRESSES: A copy of the Notice of Proposed Rulemaking (NPRM), all comments received, this final rule, and all background material may be viewed online at www.regulations.gov using the FAA Docket number. Electronic retrieval help and guidelines are available on the website. It is available 24 hours each day, 365 days each year.

FAA Order JO 7400.11J, Airspace Designations and Reporting Points, and subsequent amendments can be viewed online at www.faa.gov/air_traffic/publications/. You may also contact the Rules and Regulations Group, Office of Policy, Federal Aviation Administration, 600 Independence Avenue SW, Washington, DC 20597; telephone: (202) 267-8783.

FOR FURTHER INFORMATION CONTACT: Colby Abbott, Rules and Regulations Group, Office of Policy, Federal Aviation Administration, 600 Independence Avenue SW, Washington, DC 20597; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the NAS as necessary to preserve the safe and efficient flow of air traffic.

History

The FAA published a notice of proposed rulemaking for Docket No. FAA-2024-2444 in the Federal Register (89 FR 88178; November 7, 2024), to establish RNAV Routes Q-162 and Q-166 in the southwest United States. The new RNAV routes would provide alternative routing for air traffic between southwest Arizona and western Texas in response to severe weather events during the spring and summer months. Interested parties were invited to participate in this rulemaking effort by submitting written comments on the proposal. No comments were received.

Incorporation by Reference

Unites States Area Navigation Routes are published in paragraph 2006 of FAA Order JO 7400.11, Airspace Designations and Reporting Points, which is incorporated by reference in 14 CFR 71.1 on an annual basis. This document amends the current version of that order, FAA Order JO 7400.11J, dated July 31, 2024, and effective September 15, 2024. FAA Order JO 7400.11J is publicly available as listed in the ADDRESSES section of this document. These amendments will be published in the next update to FAA Order JO 7400.11.

FAA Order JO 7400.11J lists Class A, B, C, D, and E airspace areas, air traffic service routes, and reporting points.

The Rule

This action amends 14 CFR part 71 by establishing RNAV Routes Q-162 and Q-166 in the southwest United States. The new RNAV Q-routes are described below.

Q-162: Q-162 is a new route that extends between the HAHAA, AZ, Waypoint (WP), located approximately 20 nautical miles (NM) northwest of the Flagstaff, AZ, Very High Frequency Omnidirectional Range (VOR)/Distance Measuring Equipment (VOR/DME) and the AGGIY, TX, WP, located approximately 36 NM northeast of the Panhandle, TX, VOR/Tactical Air Navigation (VORTAC). This Q-route provides a routing alternative along the northern portion of Albuquerque Air Route Traffic Control Center (ARTCC) airspace between the Flagstaff, AZ, area and the Borger, TX, area when severe weather events impact the high altitude enroute structure through central Arizona and New Mexico, and western Texas.

Q-166: Q-166 is a new route that extends between the MOHAK, AZ, Fix, located approximately 32 NM east of the Bard, CA, VORTAC and the MRTHN, TX, WP, located approximately 55 NM southeast of the Fort Stockton, TX, VORTAC. This Q-route provides a routing alternative along the southern portion of Albuquerque ARTCC airspace between the Wellton, AZ, area and the Longfellow, TX, area when severe weather events impact the high altitude enroute structure through central Arizona and New Mexico, and western Texas.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action establishing RNAV Routes Q-162 and Q-166 in the southwest United States qualifies for categorical exclusion under the National Environmental Policy Act (42 U.S.C. 4321 et seq.) and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points); and paragraph 5-6.5b, which categorically excludes from further environmental impact review actions regarding establishment of jet routes and Federal airways (see 14 CFR 71.15, Designation of jet routes and VOR Federal airways); operation of civil aircraft in a defense area, or to, within, or out of the United States through a designated Air Defense Identification Zone (ADIZ) (14 CFR part 99, Security Control of Air Traffic); authorizations for operation of moored balloons, moored kites, amateur rockets, and unmanned free balloons (see 14 CFR part 101, Moored Balloons, Kites, Amateur Rockets and Unmanned Free Balloons); and, authorizations of parachute jumping and inspection of parachute equipment (see 14 CFR part 105, Parachute Operations). As such, this action is not expected to result in any potentially significant environmental impacts. In accordance with FAA Order 1050.1F, paragraph 5-2 regarding Extraordinary Circumstances, the FAA has reviewed this action for factors and circumstances in which a normally categorically excluded action may have a significant environmental impact requiring further analysis. The FAA has determined that no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f); 40103, 40113, 40120; E.O. 10854, 24 FR 9565, 3 CFR, 1959-1963 Comp., p. 389.

§ 71.1 [Amended]

2. The incorporation by reference in 14 CFR 71.1 of FAA Order 7400.11J, Airspace Designations and Reporting Points, dated July 31, 2024, and effective September 15, 2024, is amended as follows:

Paragraph 2006 United States Area Navigation Routes.

* * * * *

Q-162 HAHAA, AZ to AGGIY, TX [New]
HAHAA, AZ | WP | (Lat. 35°27′21.83″ N, long. 111°51′43.96″ W)
Gallup, NM (GUP) | VORTAC | (Lat. 35°28′33.60″ N, long. 108°52′21.41″ W)
DRICC, NM | WP | (Lat. 35°41′21.20″ N, long. 105°22′08.78″ W)
MIRME, NM | WP | (Lat. 35°47′00.72″ N, long. 103°50′31.88″ W)
AGGIY, TX | WP | (Lat. 35°48′20.71″ N, long. 101°28′38.83″ W)

* * * * *

Q-166 MOHAK, AZ to MRTHN, TX [New]
MOHAK, AZ | FIX | (Lat. 32°46′33.04″ N, long. 113°58′19.55″ W)
Gila Bend, AZ (GBN) | VORTAC | (Lat. 32°57′22.53″ N, long. 112°40′27.38″ W)
Stanfield, AZ (TFD) | VORTAC | (Lat. 32°53′09.08″ N, long. 111°54′31.44″ W)
OLIIN, AZ | FIX | (Lat. 32°03′45.69″ N, long. 110°11′23.06″ W)
GRNNT, NM | WP | (Lat. 31°53′00.00″ N, long. 108°07′00.00″ W)
SWIMS, TX | WP | (Lat. 31°50′35.65″ N, long. 106°35′10.22″ W)
El Paso, TX (ELP) | VORTAC | (Lat. 31°48′57.28″ N, long. 106°16′54.78″ W)
FNLAY, TX | WP | (Lat. 31°10′24.00″ N, long. 105°20′29.00″ W)
TRQSE, TX | WP | (Lat. 31°01′00.41″ N, long. 105°05′22.81″ W)
Marfa, TX (MRF) | VOR/DME | (Lat. 30°17′54.14″ N, long. 103°57′17.12″ W)
MRTHN, TX | WP | (Lat. 30°04′59.00″ N, long. 102°38′47.00″ W)

* * * * *

Issued in Washington, DC, on January 24, 2025.
Brian Eric Konie,
Manager (A), Rules and Regulations Group.

[FR Doc. 2025-01908 Filed 1-29-25; 8:45 am]

BILLING CODE 4910-13-P